DEPARTMENT OF ENERGY

Federal Energy Regulatory Commission

[Docket No. IC09-587-000]

Commission Information Collection Activities (FERC-587); Comment Request; Extension

January 9, 2009.

AGENCY: Federal Energy Regulatory Commission, DOE.

ACTION: Notice of proposed information collection and request for comments.

SUMMARY: In compliance with the requirements of section 3506(c) (2) (a) of the Paperwork Reduction Act of 1995 (Pub. L. No. 104-13), the Federal Energy Regulatory Commission (Commission) is soliciting public comment on the specific aspects of the information collection described below.

DATES: Comments in consideration of the collection of information are due Monday, March 23, 2009.

ADDRESSES: An example of this collection of information may be obtained from the Commission's Web site (at http://www.ferc.gov/docs-filing/elibrary.asp). Comments may be filed either electronically or in paper format, and should refer to Docket No. IC09-587-000. Documents must be prepared in an acceptable filing format and in compliance with the Federal Energy Regulatory Commission submission guidelines at http://www.ferc.gov/help/submission-guide.asp.

Comments may be filed electronically via the eFiling link on the Commission's Web site at http://www.ferc.gov. First time users will have to establish a user name and password (http://www.ferc.gov/docs-filing/eregistration.asp) before eFiling. The Commission will send an automatic acknowledgement to the sender's e-mail address upon receipt of comments through eFiling.

Commenters filing electronically should not make a paper filing. Commenters that are not able to file electronically must send an original and 14 copies of their comments to: Federal Energy Regulatory Commission, Secretary of the Commission, 888 First Street, NE., Washington, DC 20426.

Users interested in receiving automatic notification of activity in this docket may do so through eSubscription (at http://www.ferc.gov/docs-filing/esubscription.asp). In addition, all comments and FERC issuances may be viewed, printed or downloaded remotely through FERC's Web site using the “eLibrary” link and searching on Docket Number IC09-587. For user assistance, contact FERC Online Support (e-mail at ferconlinesupport@ferc.gov, or call toll-free at (866) 208-3676, or for TTY, contact (202) 502-8659).

FOR FURTHER INFORMATION CONTACT: Michael Miller may be reached by telephone at (202) 502-8415, by fax at (202) 273-0873, and by e-mail at michael.miller@ferc.gov.

SUPPLEMENTARY INFORMATION: The FERC uses the FERC Form No. 587 (“Land Description (Public Land States/Non-Public Land States (Rectangular or Non-Rectangular Survey System Lands in Public Land States))”; OMB Control Number 1902-0145) to collect information required by the statutory provisions of Section 24 of the Federal Power Act (FPA), (16 U.S.C. 818). Applicants proposing hydropower projects, or changes to existing projects located on lands owned by the United States are required to provide a description of the U.S. lands affected, to the Commission and Secretary of Interior. FERC Form No. 587 consolidates the information required, and identifies hydropower project boundary maps associated with lands of the United States. The Commission verifies the accuracy of the information supplied and coordinates with the Bureau Land of Management State Offices (BLM), so the U.S. lands can be reserved as hydropower sites and withdrawn from other uses. (When the filer submits the FERC-587, the filer is also required to submit exhibit drawings (e.g., on aperture cards and/or electronic files). The FERC-587 serves as a `table of contents' for the federal lands that are shown in the drawings. The reporting requirements and burdens related to the preparation and submittal of the actual drawings are included, as appropriate, in: FERC-512 (Application for Preliminary Permits; OMB Control No: 1902-0073), FERC-500 (Application for License/Relicense for Water Projects with Greater than 5 MW Capacity; OMB Control No. 1902-0058), and FERC-505 (Application for License/Relicense for Water Projects with Less then 5 MW Capacity; OMB Control No. 1902-0115).)

Action: The Commission is requesting a three-year extension of the current expiration date for the FERC-587.

Burden Statement: Public reporting burden for this collection is estimated at:

FERC Data collection | Number of respondents annually | Number of responses per respondent | Average burden hours per response | Total annual burden hours
| (1) | (2) | (3) | (1) × (2) × (3)
FERC-587 | 250 | 1 | 1 | 250

The total estimated annual cost is $12,500 (250 hours at $50/hour). The estimated annual cost per respondent is $50. [These figures are based on the estimated median salary (adjusted for inflation) for a civil engineering technician, from the Bureau of Labor Statistics, Occupational Employment Statistics.]

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology, e.g. permitting electronic submission of responses.

Kimberly D. Bose,
Secretary.

[FR Doc. E9-753 Filed 1-14-09; 8:45 am]

BILLING CODE 6717-01-P